NUCLEAR REGULATORY COMMISSION

[Docket Nos. 50-395, 52-027, 52-028, and 72-1038; Renewed Operating License No. NPF-12; Combined License Nos. NPF-93 and NPF-94; and the General License for the Independent Spent Fuel Storage Installation (ISFSI); NRC-2018-0043]

In the Matter of Dominion Energy, Inc., and SCANA Corporation Virgil C. Summer Nuclear Station (VCSNS), Units 1, 2, and 3, and the ISFSI

AGENCY: Nuclear Regulatory Commission.

ACTION: Indirect transfer of license; Orders.

SUMMARY: The U.S. Nuclear Regulatory Commission (NRC) is issuing Orders approving an application filed by South Carolina Electric & Gas Company and Dominion Energy, Inc. (Dominion Energy) on January 25, 2018. The application sought NRC approval of the indirect transfer of Renewed Facility Operating License No. NPF-12 and Combined License Nos. NPF-93 and NPF-94 for Summer, Units 1, 2, and 3, respectively, and the general license for the Independent Spent Fuel Storage Installation, from the ultimate parent, SCANA Corporation, to Dominion Energy. The NRC's approval of the indirect license transfer is subject to certain conditions, which are described in the Orders. No physical changes to the facility or operational changes were proposed in the application. The Orders were effective upon issuance.

DATES: The Orders were issued on August 30, 2018, and are effective for 1 year.

ADDRESSES: Please refer to Docket ID NRC-2018-0043 when contacting the NRC about the availability of information regarding this document. You may obtain publicly available information related to this document using any of the following methods:

• Federal Rulemaking Website: Go to http://www.regulations.gov and search for Docket ID NRC-2018-0035. Address questions about NRC dockets to Jennifer Borges; telephone: 301-287-9127;email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Shawn Williams, Office of Nuclear Reactor Regulation, U.S. Nuclear Regulatory Commission, Washington, DC 20555-0001; telephone: 301-415-1009; email: Shawn.Williams@nrc.gov.

SUPPLEMENTARY INFORMATION: The text of the Orders are attached.

Dated at Rockville, Maryland, this 5th of September 2018.
For the Nuclear Regulatory Commission.
Shawn A. Williams,
Senior Project Manager, Plant Licensing Branch II-1, Division of Operating Reactor Licensing, Office of Nuclear Reactor Regulation.

Attachment—Orders Approving Indirect Transfer of License

United States of America

Nuclear Regulatory Commission

In the Matter of: SCANA Corporation, South Carolina Electric & Gas Company, Dominion Energy, Inc.,Virgil C. Summer Nuclear Station, Unit No. 1, and Independent Spent Fuel Storage Installation

Docket Nos. 50-395, 72-1038

Renewed Facility Operating License No. NPF-12; and, General License for the Independent Spent Fuel Storage Installation

ORDER APPROVING INDIRECT TRANSFER OF LICENSES

I.

South Carolina Electric & Gas Company (SCE&G) and the South Carolina Public Service Authority (Santee Cooper) are the holders of Renewed Facility Operating License No. NPF-12 and the general license for the Independent Spent Fuel Storage Installation (ISFSI) for the Virgil C. Summer Nuclear Station, Unit No. 1, and the ISFSI (together, VCSNS). SCE&G is the licensed operator of VCSNS. SCE&G is a wholly owned subsidiary of SCANA Corporation (SCANA). VCSNS is located in Fairfield County, South Carolina.

II.

By application dated January 25, 2018, SCE&G, acting for itself and its parent company, SCANA, and Dominion Energy, Inc. (Dominion Energy) (together, the Applicants) requested, pursuant to Title 10 of the Code of Federal Regulations (10 CFR), Section 50.80 (10 CFR 50.80), that the U.S. Nuclear Regulatory Commission (NRC) consent to the indirect transfer of SCE&G's two-thirds ownership interest in the Renewed Facility Operating License No. NPF-12, Combined License Nos. NPF-93 and NPF-94, and the general license for the associated ISFSI. The proposed indirect transfer does not involve Santee Cooper's one-third ownership interest in VCSNS. The Combined License Nos. NPF-93 and NPF-94 indirect license transfer is addressed in a separate Order.

The proposed indirect license transfer would facilitate a merger between Dominion Energy and SCANA, the parent company of SCE&G. The transaction would be effected through the merger of SCANA and Sedona Corp. (Sedona), which is a South Carolina corporation and subsidiary of Dominion Energy formed for the sole purpose of merging with SCANA. Sedona would be merged with and into SCANA, with SCANA remaining as the surviving corporation, which will be a direct wholly-owned subsidiary of Dominion Energy.

Approval of the indirect transfer of the Renewed Facility Operating License and ISFSI was requested by SCE&G and Dominion Energy. A notice entitled, “Virgil C. Summer Nuclear Station, Unit 1, 2, and 3, and Independent Spent Fuel Storage Installation; Consideration of Approval of Transfer of License,” was published in the Federal Register on March 8, 2018 (83 FR 9876). No comments or hearing requests were received.

Under 10 CFR 50.80, no license, or any right thereunder, shall be transferred, directly or indirectly, through transfer of control of the license, unless the NRC gives its consent in writing. After the indirect transfer, SCE&G would remain a wholly owned subsidiary of SCANA, which in turn would become a wholly owned subsidiary of Dominion Energy. SCE&G would remain the licensed owner and operator of VCSNS. Upon review of the information in the application, and other information before the Commission, the NRC staff has determined that the Applicants are qualified to hold the licenses to the extent proposed to permit the indirect transfer. The NRC staff has also determined that indirect transfer of the licenses, as described in the application, is otherwise consistent with the applicable provisions of law, regulations, and orders issued by the NRC, pursuant thereto, subject to the conditions set forth below. The findings set forth above are supported by a safety evaluation dated August 30, 2018.

III.

Accordingly, pursuant to Sections 161b, 161i, 161o, and 184 of the Atomic Energy Act of 1954, as amended (the Act), 42 U.S.C. § 2201(b), 2201(i), 2201(o), and 2234; and 10 CFR 50.80, IT IS HEREBY ORDERED that the application regarding the proposed indirect license transfer is approved for Virgil C. Summer Nuclear Station, Unit No. 1, and the ISFSI.

IT IS ORDERED that after receipt of all required regulatory approvals of the proposed indirect transfer action, SCE&G shall inform the Director of the Office of Nuclear Reactor Regulation in writing of such receipt no later than 2 business days prior to the date of the closing of the indirect transfer. Should the proposed indirect transfer not be completed within 1 year of this Order's date of issue, this Order shall become null and void, provided, however, upon written application and good cause shown, such date may be extended by order.

This Order is effective upon issuance.

For further details with respect to this Order, see the initial application dated January 25, 2018 (Agencywide Documents Access and Management System (ADAMS) Accession No. ML18025C035), and the Safety Evaluation dated August 30, 2018 (ADAMS Accession No. ML18129A076), which are available for public inspection at the Commission's Public Document Room (PDR), located at One White Flint North, Public File Area 01 F21, 11555 Rockville Pike (first floor), Rockville, Maryland. Publicly available documents created or received at the NRC are accessible electronically through ADAMS in the NRC Library at http://www.nrc.gov/reading-rm/adams.html. Persons who do not have access to ADAMS or who encounter problems in accessing the documents located in ADAMS, should contact the NRC PDR reference staff by telephone at 1-800-397-4209, or 301-415-4737, or by email to pdr.resource@nrc.gov.

Dated at Rockville, Maryland this 30th day of August 2018.

For the Nuclear Regulatory Commission.

Joseph G. Giitter,

Director, Division of Operating Reactor Licensing Office of Nuclear Reactor Regulation

United States of America

Nuclear Regulatory Commission

In the Matter of: SCANA Corporation, South Carolina Electric and Gas Company, Dominion Energy, Inc., Virgil C. Summer Nuclear Station, Unit Nos. 2 and 3

Docket Nos. 52-027, 52-028

Combined License Nos. NPF-93 and NPF-94

ORDER APPROVING INDIRECT TRANSFER OF LICENSES

I.

South Carolina Electric & Gas Company (SCE&G) and the South Carolina Public Service Authority (Santee Cooper) are the holders of Combined License (COL) Nos. NPF-93 and NPF-94 for the Virgil C. Summer Nuclear Station (VCSNS), Unit Nos. 2 and 3. SCE&G is a wholly owned subsidiary of SCANA Corporation (SCANA). VCSNS is located in Fairfield County, South Carolina.

II.

By application dated January 25, 2018, SCE&G, acting for itself and its parent company, SCANA, and Dominion Energy, Inc. (Dominion Energy) (together, the Applicants) requested, pursuant to Title 10 of the Code of Federal Regulations (10 CFR), Section 50.80 (10 CFR 50.80), that the U.S. Nuclear Regulatory Commission (NRC) consent to the indirect transfer of SCE&G's two-thirds ownership interest in Renewed Facility Operating License No. NPF-12, Combined License Nos. NPF-93 and NPF-94, and the general license for the associated ISFSI. The proposed indirect transfer does not involve Santee Cooper's one-third ownership interest in VCSNS, Units 2 and 3. The Renewed Facility Operating License No. NPF-12 and the general license for the ISFSI indirect license transfer is addressed in a separate Order.

The proposed indirect license transfer would facilitate a merger between Dominion Energy and SCANA, the parent company of SCE&G. The merger would be effected through the merger of SCANA and Sedona Corp. (Sedona), which is a South Carolina corporation and subsidiary of Dominion Energy formed for the sole purpose of merging with SCANA. Sedona would be merged with and into SCANA, with SCANA remaining as the surviving corporation which will be a direct wholly-owned subsidiary of Dominion Energy.

Approval of the indirect transfer of the Combined License Nos. NPF-93 and NPF-94 was requested by SCE&G and Dominion Energy. A notice entitled, “Virgil C. Summer Nuclear Station, Unit 1, 2, and 3, and Independent Spent Fuel Storage Installation; Consideration of Approval of Transfer of License,” was published in the Federal Register on March 8, 2018 (83 FR 9876). No comments or hearing requests were received.

Under 10 CFR 50.80, no license, or any right thereunder, shall be transferred, directly or indirectly, through transfer of control of the license, unless the NRC gives its consent in writing. After the indirect transfer, SCE&G would remain a wholly owned subsidiary of SCANA, which in turn would become a wholly owned subsidiary of Dominion Energy. SCE&G would remain the licensed two-thirds owner and operator of VCSNS, Units 2 and 3. Upon review of the information in the licensee's application, and other information before the Commission, the NRC staff has determined that the Applicants are qualified to hold the license to the extent proposed to permit the indirect transfer. The NRC staff has also determined that indirect transfer of the licenses, as described in the application, is otherwise consistent with the applicable provisions of law, regulations, and orders issued by the NRC, pursuant thereto, subject to the conditions set forth below. The findings set forth above are supported by a safety evaluation dated August 30, 2018.

III.

Accordingly, pursuant to Sections 161b, 161i, 161o, and 184 of the Atomic Energy Act of 1954, as amended (the Act), 42 U.S.C. § 2201(b), 2201(i), 2201(o), and 2234; and 10 CFR 50.80 and 52.105, IT IS HEREBY ORDERED that the application regarding the proposed indirect license transfer is approved for Virgil C. Summer Nuclear Station, Unit Nos. 2 and 3.

IT IS ORDERED that after receipt of all required regulatory approvals of the proposed indirect transfer action, SCG&E shall inform the Director of the Office of New Reactors in writing of such receipt no later than 2 business days prior to the date of the closing of the indirect transfer. Should the proposed indirect transfer not be completed within 1 year of this Order's date of issue, this Order shall become null and void, provided, however, upon written application and good cause shown, such date may be extended by order.

This Order is effective upon issuance.

For further details with respect to this Order, see the initial application dated January 25, 2018, (Agencywide Documents Access and Management System (ADAMS) Accession No. ML18025C035), and the Safety Evaluation dated August 30, 2018 (ADAMS Accession No. ML18129A076), which are available for public inspection at the Commission's Public Document Room (PDR), located at One White Flint North, Public File Area 01 F21, 11555 Rockville Pike (first floor), Rockville, Maryland. Publicly available documents created or received at the NRC are accessible electronically through ADAMS in the NRC Library at http://www.nrc.gov/reading-rm/adams.html. Persons who do not have access to ADAMS or who encounter problems in accessing the documents located in ADAMS, should contact the NRC PDR reference staff by telephone at 1-800-397-4209, or 301-415-4737, or by email to pdr.resource@nrc.gov.

Dated at Rockville, Maryland this 30th day of August, 2018.

For the Nuclear Regulatory Commission.

Robert M. Taylor,

Director Division of Licensing, Siting, and Environmental Analysis Office of New Reactors.

[FR Doc. 2018-19578 Filed 9-7-18; 8:45 am]

BILLING CODE 7590-01-P